DEPARTMENT OF ENERGY

Federal Energy Regulatory Commission

Combined Notice of Filings #1

Take notice that the Commission received the following electric corporate filings:

Docket Numbers: EC22-25-000.

Applicants: Chambers Cogeneration Limited Partnership, Carneys Point Generation II, L.L.C.

Description: Joint Application for Authorization Under Section 203 of the Federal Power Act of Chambers Cogeneration Limited Partnership, et al.

Filed Date: 12/17/21.

Accession Number: 20211217-5417.

Comment Date: 5 p.m. ET 1/7/22.

Take notice that the Commission received the following electric rate filings:

Docket Numbers: ER11-3461-001; ER11-4443-004; ER16-1689-003.

Applicants: ArcelorMittal Cleveland LLC, AK Electric Supply, LLC, ArcelorMittal USA, LLC.

Description: Notice of Non-Material Change in Status of AK Electric Supply, LLC, et al.

Filed Date: 12/15/21.

Accession Number: 20211215-5311.

Comment Date: 5 p.m. ET 1/5/22.

Docket Numbers: ER11-4443-005.

Applicants: AK Electric Supply, LLC.

Description: Notice of Non-Material Change in Status of AK Electric Supply LLC.

Filed Date: 12/15/21.

Accession Number: 20211215-5312.

Comment Date: 5 p.m. ET 1/5/22.

Docket Numbers: ER17-2515-006.

Applicants: Chambers Cogeneration, Limited Partnership.

Description: Compliance filing: Informational Filing Pursuant to Schedule 2 to be effective N/A.

Filed Date: 12/20/21.

Accession Number: 20211220-5124.

Comment Date: 5 p.m. ET 1/10/22.

Docket Numbers: ER17-998-002.

Applicants: DATC Path 15, LLC.

Description: Compliance filing: Compliance to 3000014 to be effective 4/21/2017.

Filed Date: 12/20/21.

Accession Number: 20211220-5161.

Comment Date: 5 p.m. ET 1/10/22.

Docket Numbers: ER21-1702-001.

Applicants: ISO New England Inc., Central Maine Power Company.

Description: Compliance filing: ISO New England Inc. submits tariff filing per 35: Central Maine Power; ER21-17025—Supplemental Order No. 864 Compliance Filing to be effective 1/1/2020.

Filed Date: 12/20/21.

Accession Number: 20211220-5160.

Comment Date: 5 p.m. ET 1/10/22.

Docket Numbers: ER22-42-001.

Applicants: DTE Electric Company.

Description: Tariff Amendment: Deficiency Filing in Docket ER22-42-000 to be effective 7/1/2021.

Filed Date: 12/20/21.

Accession Number: 20211220-5163.

Comment Date: 5 p.m. ET 1/10/22.

Docket Numbers: ER22-205-001.

Applicants: Tri-State Generation and Transmission Association, Inc.

Description: Tariff Amendment: Errata to Notice of Cancellation of Rate Schedule No. 263 to be effective 12/27/2021.

Filed Date: 12/20/21.

Accession Number: 20211220-5125.

Comment Date: 5 p.m. ET 1/10/22.

Docket Numbers: ER22-683-000.

Applicants: Southwest Power Pool, Inc.

Description: § 205(d) Rate Filing: 3868 Southwestern Power Admin/SpringfieldMO Utilities Int Ag to be effective 1/1/2022.

Filed Date: 12/17/21.

Accession Number: 20211217-5316.

Comment Date: 5 p.m. ET 1/7/22.

Docket Numbers: ER22-684-000.

Applicants: Southwest Power Pool, Inc.

Description: § 205(d) Rate Filing: Attachment AE Revisions to Add Hybrid Storage Market Resource Provisions to be effective 2/19/2022.

Filed Date: 12/20/21.

Accession Number: 20211220-5021.

Comment Date: 5 p.m. ET 1/10/22.

Docket Numbers: ER22-685-000.

Applicants: PJM Interconnection, L.L.C.

Description: § 205(d) Rate Filing: Original NSA, SA No. 6265; Queue No. M04 to be effective 11/19/2021.

Filed Date: 12/20/21.

Accession Number: 20211220-5180.

Comment Date: 5 p.m. ET 1/10/22.

Docket Numbers: ER22-686-000.

Applicants: Entergy Arkansas, LLC.

Description: § 205(d) Rate Filing: EAL MBR Tariff Compliance to be effective 9/1/2021.

Filed Date: 12/20/21.

Accession Number: 20211220-5190.

Comment Date: 5 p.m. ET 1/10/22.

Docket Numbers: ER22-687-000.

Applicants: Entergy Mississippi, LLC.

Description: § 205(d) Rate Filing: EML MBR Tariff Compliance to be effective 9/1/2021.

Filed Date: 12/20/21.

Accession Number: 20211220-5191.

Comment Date: 5 p.m. ET 1/10/22.

Docket Numbers: ER22-688-000.

Applicants: AR Searcy Project Company, LLC.

Description: § 205(d) Rate Filing: MBR Tariff Compliance to be effective 9/1/2021.

Filed Date: 12/20/21.

Accession Number: 20211220-5192.

Comment Date: 5 p.m. ET 1/10/22.

Docket Numbers: ER22-689-000.

Applicants: MS Sunflower Project Company, LLC.

Description: § 205(d) Rate Filing: MBR Tariff Compliance to be effective 9/1/2021.

Filed Date: 12/20/21.

Accession Number: 20211220-5194.

Comment Date: 5 p.m. ET 1/10/22.

Docket Numbers: ER22-691-000.

Applicants: PJM Interconnection, L.L.C.

Description: § 205(d) Rate Filing: Original NSA, SA No. 6266; Queue No. AB2-175 to be effective 11/19/2021.

Filed Date: 12/20/21.

Accession Number: 20211220-5201.

Comment Date: 5 p.m. ET 1/10/22.

Take notice that the Commission received the following electric securities filings:

Docket Numbers: ES22-18-000.

Applicants: Portland General Electric Company.

Description: Amendment to Application Under Section 204 of the Federal Power Act for Authorization to Issue Securities of Portland General Electric Company.

Filed Date: 12/17/21.

Accession Number: 20211217-5402.

Comment Date: 5 p.m. ET 1/3/22.

Docket Numbers: ES22-24-000.

Applicants: Consumers Energy Company.

Description: Application Under Section 204 of the Federal Power Act for Authorization to Issue Securities of Consumers Energy Company.

Filed Date: 12/17/21.

Accession Number: 20211217-5406.

Comment Date: 5 p.m. ET 1/7/22.

Take notice that the Commission received the following electric reliability filings:

Docket Numbers: RD22-1-000.

Applicants: North American Electric Reliability Corporation.

Description: Petition of North American Electric Reliability Corporation and SERC Reliability Corporation for Approval of Proposed Regional Reliability Standard PRC-006-SERC-03 and Request for Expedited Action.

Filed Date: 12/14/21.

Accession Number: 20211214-5283.

Comment Date: 5 p.m. ET 1/19/22.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 20, 2021.
Kimberly D. Bose,
Secretary.

[FR Doc. 2021-28023 Filed 12-23-21; 8:45 am]

BILLING CODE 6717-01-P